DEPARTMENT OF TRANSPORTATION

Pipeline and Hazardous Materials Safety Administration

Hazardous Materials: Notice of Applications for Special Permits

AGENCY: Pipeline and Hazardous Materials Safety Administration (PHMSA), DOT.

ACTION: List of applications delayed more than 180 days.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 23, 2017.

ADDRESS COMMENTS TO: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(6); 49 CFR I.53(b)).

Issued in Washington, DC, on December 8, 2016.
Donald Burger,
Chief, Office of the Special Permits and Approvals.

Application No. | Docket No. | Applicant | Regulation(s) affected | Nature of the special permits thereof
Special Permits Data
11180-M |  | Arrival Inc | 24 | To modify the special permit to authorize metal tubes with a decreased diameter and an increased length to be authorized under the special permit.
11516-P |  | Essendant Inc | 177.800, 172.500, 173.304a, 172.200, 174.1, 172.400 | To authorize the transportation in commerce of certain DOT Specification 2Q containers containing certain hazardous materials.
12412-R |  | Green Touch Systems LLC |  | To consolidate the exemptions that currently authorize the discharge of hazardous materials in UN Intermediate Bulk Containers (IBC) without removing the IBC from the motor vehicle on which it is transported.
13583-M |  | Structural Composites Industries LLC | 205, 3, 302A, 304A | To authorize an increase in the maximum water volume of the non-specification cylinders manufactured under the special permit.
14566-M |  | Nantong CIMC Tank Equipment Co., Ltd | 178.274(b), 178.274(b), 178.276(a)(2), 178.276(b)(1) | To modify the special permit to authorize portable tanks with a design margin of 3.5:1 instead of 4.0:1.
14691-R |  | Federal Express Corporation |  | To authorize the return shipment by motor vehicle of hazardous materials that have been accepted, transported, and subsequently determined to be non-compliant with the Hazardous Materials Regulation's shipping paper, marking or labeling requirements.
14920-M |  | Nordco Rail Services LLC | 173.302a(b), 172.203(a), 172.301(c), 180.205 | To modify the special permit to authorize requalification of DOT specification 3A and 3AA cylinders with 24 inch outside diameters and to indicate that Ultrasonic Examination (UE) is not required on the sidewall-to-base transitions (SBT) region of a cylinder if the cylinder design does not permit.
16273-R |  | Lohman Helicopter, LLC |  | To authorize the transportation in commerce of certain hazardous materials by 14 CFR part 133 Rotorcraft External Load Operations transporting hazardous materials attached to or suspended from an aircraft, in remote areas of the U.S. only, without being subject to hazard communication requirements, quantity limitations and certain loading and stowage requirements.
16452-M |  | The Procter & Gamble Company |  | To modify the permit to clarify the requirement for strong outer packaging to meet the requirements normally applied to packages of “limited quantities” moving by air.
16592-P |  | Maximum Rx Credit, Inc |  | To authorize the transportation in commerce of certain Drug Enforcement Administration (DEA) controlled substances transported for the purpose of disposal.
20220-N |  | Agility Fuel Systems, Inc | 173.220(a) | To authorize the transportation in commerce of compressed natural gas fuel systems that are not part of an internal combustion engine.
20222-N |  | Trinity Containers, LLC | 178.337-3(g)(3), 172.203(a), 172.302(c) | To authorize the transportation in commerce of certain DOT Specification MC-331 cargo tank motor vehicles with a water capacity greater than 3,000 gallons, manufactured to the DOT MC-331 specification, constructed of non-quenched and tempered (“NQT”) steel except that the cargo tanks have baffle supports welded directly to an angle on the inside of the cargo tank without the use of pads.
20226-N |  | Awesome Flight LLC | 173.27(b)(3) | To authorize the transportation of lithium ion batteries in excess of the authorized quantity limitations via passenger and cargo aircraft.
20228-N |  | Worthington Cylinder Corporation | 173.302(f)(3), 173.302(f)(4), 173.302(f)(5), 173.302(a)(1), 173.304a(a)(1), 175.501(e)(3) | To authorize the manufacture, marking, sale and use of non-DOT specification fully wrapped carbon fiber reinforced steel lined cylinders for the transportation in commerce.
20235-N |  | Union Pacific Railroad Company Inc | 174.83(c), 174.83(d), 174.83(e) | To authorize the transportation in commerce of flat-cars carrying bulk packagings containing certain Division 4.3 materials without restricting its ability to couple with another railcar while moving under its own momentum.
20239-N |  | Paklook Air, Inc | 172.101(j)(1), 172.301(c) | To authorize the transportation in commerce of certain Class 1 explosive materials which are forbidden for transportation by air, to be transported by cargo aircraft within and around the State of Alaska when other means of transportation are impracticable or not available.
20251-N |  | Salco Products Inc | 172.203(a), 178.345-1, 180.413 | To authorize the manufacture, mark, sale and use of manway assemblies constructed from stabilized polyethylene for installation on certain DOT specification cargo tank motor vehicles in transporting certain hazardous materials.
20260-N |  | Rogers Helicopters, Inc | 173.27(b)(2), 172.101(j), 172.200(a), 172.200, 172.204(c)(3), 172.400(b), 172.400a(a), 172.300(a), 172.300, 172.301(c), 175.75(b), 175.75(c), 178.1010(a)(1) 173.185(a) | To authorize the transportation in commerce of certain hazardous materials by 14 CFR part 133 Rotorcraft External Load Operations transporting hazardous materials attached to or suspended from an aircraft, in remote areas of the US only, without being subject to hazard communication requirements, quantity, limitations, and certain loading and stowage requirements.
20261-N |  | Saft S.A |  | To authorize the transportation in commerce of prototype and low production lithium ion cells and batteries and lithium metal cells and batteries by cargo-only aircraft.
20262-N |  | Shuiazhuang Enric Gas Equipment Co., Ltd. | 173.302(a), 173.304(a) | To authorize the transportation of certain hazardous materials in non-DOT specification fiber reinforced composite cylinders.
20266-N |  | Zhejiang Tiantai Zhantu Automobile Supplies Co., Ltd | 173.304(a), 173.304(d) | To authorize the manufacture, mark, sale and use of a non-refillable, non-DOT specification inside metal container conforming to all regulations applicable to a DOT specification 2Q, except as specified herein, for the transportation in commerce of the materials authorized by this special aircraft.
20271-N |  | Ball Aerospace & Technologies Corporation | 173.24(b)(1) | To authorize the transportation in commerce of DOT specification cylinders that have an identifiable release of hazardous materials during transportation.

[FR Doc. 2016-30577 Filed 12-21-16; 8:45 am]

BILLING CODE 4909-60-M